DEPARTMENT OF LABOR

Employment and Training Administration

[TA-W-54,065]

Bremner Incorporated, Ripon, WI; Notice of Termination of Investigation

Pursuant to section 221 of the Trade Act of 1974, as amended, an investigation was initiated on January 22, 2004 in response to a petition filed on behalf of workers at Bremner Incorporated, Ripon, Wisconsin.

The petitioner has requested that the petition be withdrawn. Consequently, the investigation has been terminated.

Signed at Washington, DC, this 9th day of February 2004.
Linda G. Poole,
Certifying Officer, Division of Trade Adjustment Assistance.

[FR Doc. 04-5085 Filed 3-5-04; 8:45 am]

BILLING CODE 4510-30-P